DEPARTMENT OF COMMERCE

National Oceanic and atmospheric Administration

50 CFR Parts 300 and 679

[Docket No. 000616184-0290-02; I.D. 050500A]

RIN 0648-AK74

Fisheries of the Exclusive Economic Zone Off Alaska; Sitka Pinnacles Marine Reserve; Correction

AGENCY: National Marine Fisheries Service (NMFS), National Oceanic and Atmospheric Administration (NOAA), Commerce.

ACTION: Final rule; correction.

SUMMARY: This document corrects a coordinate in the regulatory text of 50 CFR part 300 to correspond with a coordinate in Figure 18 to 50 CFR part 679. This corrects the final rule that implements Amendment 59 to the Fishery Management Plan for the Groundfish of the Gulf of Alaska (FMP), which was published November 9, 2000. Also, in the Code of Federal Regulations (CFR), this document corrects a misspelled acronym in the heading for a paragraph in 50 CFR part 679.

DATES: Effective December 11, 2000.

FOR FURTHER INFORMATION CONTACT: Patsy A. Bearden, 907-586-7008.

SUPPLEMENTARY INFORMATION:

Background

A final rule was published in the Federal Register on November 9, 2000 (65 FR 67305), to implement Amendment 59 to the FMP. A coordinate in § 300.63 of the regulatory text is incorrect and does not match its corresponding coordinate in Figure 18 to 50 CFR part 679.

Correction

In the final rule to implement Amendment 59 to the FMP, which designates a 2.5 square nm area as the Sitka Pinnacles Marine Reserve, published at 65 FR 67305, November 9, 2000, FR Doc. 00-28676, the following correction is made:

§ 300.63 [Corrected]

On page 67308, column 2, § 300.63(e), the first latitude coordinate “56°55.0' N. lat.” is corrected to read “56°55.5' N lat.”

Dated: January 11, 2001.
Bruce C. Morehead,
Acting Assistant Administrator for Fisheries, National Marine Fisheries Service.

[FR Doc. 01-2693 Filed 1-30-01; 8:45 am]

BILLING CODE: 3510-22-S